DEPARTMENT OF HOMELAND SECURITY

U.S. Customs and Border Protection

Customs Broker Permit User Fee Payment for 2024 and Announcement of eCBP Portal Payment Option

AGENCY: U.S. Customs and Border Protection, Department of Homeland Security.

ACTION: General notice.

SUMMARY: This document provides notice to customs brokers that the annual user fee that is assessed for each permit held by a customs broker, whether it may be an individual, partnership, association, or corporation, is due no later than February 9, 2024. Pursuant to fee adjustments required by the Fixing America's Surface Transportation Act (FAST Act) and the U.S. Customs and Border Protection (CBP) regulations, the customs broker permit user fee payable for calendar year 2024 will be $174.80. CBP is also announcing that customs brokers may pay the fee electronically via the electronic Customs and Border Protection (eCBP) portal.

DATES: Payment of the 2024 Customs Broker Permit User Fee is due no later than February 9, 2024.

FOR FURTHER INFORMATION CONTACT: Mohammad O. Qureshi, Chief, Broker Management Branch, Office of Trade, (202) 909-3753, or mohammad.o.qureshi@cbp.dhs.gov.

SUPPLEMENTARY INFORMATION:

Background

Customs Broker Permit User Fee Payment for 2024

Pursuant to section 111.96 of title 19 of the Code of Federal Regulations (CFR) (19 CFR 111.96(c)), U.S. Customs and Border Protection (CBP) assesses an annual user fee for each customs broker permit granted to an individual, partnership, association, or corporation. The CBP regulations provide that this fee is payable each calendar year for a national permit held by a customs broker and must be paid by the due date published annually in the Federal Register. See 19 CFR 24.22(h) and (i); 19 CFR 111.96(c).

Section 24.22 of title 19 of the CFR (19 CFR 24.22) sets forth the terms and conditions for when fees for certain services, including specific customs user fees, are required. The specific customs user fee amounts that appear in 19 CFR 24.22 are not the actual fees but represent the base year amounts that are subject to adjustment each fiscal year in accordance with the Fixing America's Surface Transportation Act (FAST Act) (Pub. L. 114-94, December 4, 2015). Section 32201 of the FAST Act amended section 13031 of the Consolidated Omnibus Budget Reconciliation Act (COBRA) of 1985 (19 U.S.C. 58c) by requiring the Secretary of the Treasury to adjust certain customs COBRA user fees and corresponding limitations to reflect certain increases in inflation. Paragraph (k) of section 24.22 of title 19 of the CFR (19 CFR 24.22(k)) sets forth the methodology to adjust fees for inflation and to determine the change in inflation, including the factor by which the fees and limitations will be adjusted, if necessary.

Customs brokers are subject to an annual customs broker permit user fee calculated using the base year amount in appendix A to 19 CFR part 24, as adjusted by the terms in 19 CFR 24.22(k). See 19 U.S.C. 58c(a)(7) and 19 CFR 24.22(h). In accordance with 19 CFR 24.22, CBP determines annually whether an adjustment to the fees and limitations is necessary and publishes a Federal Register notice specifying the amount of the fees and limitations for each fiscal year. On July 28, 2023, CBP published a Federal Register notice, entitled COBRA Fees to be Adjusted for Inflation in Fiscal Year 2024 (CBP Dec. 23-08), which announced, among other fee adjustments, that the annual customs broker permit user fee will increase to $174.80 for calendar year 2024. See 88 FR 48900.

Thus, as required by 19 CFR 24.22, CBP provided notice in the Federal Register of the annual fee amount at least 60 days prior to the date that the payment is due for each customs broker national permit. This document notifies customs brokers that, for calendar year 2024, the due date for payment of the annual customs broker permit user fee is February 9, 2024. If a customs broker fails to pay the annual customs broker permit user fee by February 9, 2024, the national permit is revoked by operation of law. See 19 CFR 111.45(b) and 111.96(c).

Announcement of eCBP Portal Payment Option

On October 18, 2022, CBP published a final rule titled “Modernization of the Customs Broker Regulations” in the Federal Register (87 FR 63267), which announced the deployment of the electronic Customs and Border Protection (eCBP) portal, an online system for processing electronic payments of licensed customs broker fees and submissions, and stated that CBP would announce additional eCBP functionalities, including an enhancement allowing the payment of annual permit user fees, in the Federal Register. Accordingly, in this document, CBP is announcing the deployment of new eCBP functionality allowing the payment of the annual customs broker permit user fee. CBP anticipates that the eCBP portal will be open for the collection of annual customs broker permit user fee payments starting on November 29, 2023.

With this new functionality, customs brokers may either submit the fee through the eCBP portal or submit the fee at the processing Center, as defined in 19 CFR 111.1, in accordance with the remittance procedures in 19 CFR 24.22(i). The eCBP portal streamlines the payment process, allows for easy collection of fees, and offers customs brokers the flexibility and convenience to pay licensed customs broker fees easily and effectively. Thus, CBP encourages customs brokers to pay the annual customs broker permit user fee electronically via the eCBP portal. Customs brokers who wish to use the eCBP portal, located on CBP's website or at https://e.cbp.dhs.gov/brokers/#/home, must create a Login.gov account as a first-time user. Instructions and training resources, such as user and quick reference guides, for customs brokers on how to create a Login.gov account and how to use the eCBP portal can be found on CBP's website.

John P. Leonard,
Acting Executive Assistant Commissioner, Office of Trade.

[FR Doc. 2023-26050 Filed 11-24-23; 8:45 am]

BILLING CODE 9111-14-P